OFFICE OF PERSONNEL MANAGEMENT

Submission for Review: Rollover Election (RI 38-117), Rollover Information (RI 38-118) and Special Tax Notice Regarding Rollovers (RI 37-22)

AGENCY: Office of Personnel Management.

ACTION: 30-Day notice and request for comments.

SUMMARY: The Office of Personnel Management (OPM) offers the general public and other Federal agencies the opportunity to comment on an expiring information collection with three instruments: Rollover Election (RI 38-117), Rollover Information (RI 38-118), and Special Tax Notice Regarding Rollovers (RI 37-22).

DATES: Comments are encouraged and will be accepted until October 27, 2025.

ADDRESSES: Written comments and recommendations for the proposed information collection should be sent within 30 days of publication of this notice to http://www.reginfo.gov/public/do/PRAMain. Find this particular information collection request by selecting “Office of Personnel Management” under “Currently Under Review,” then check “Only Show ICR for Public Comment” checkbox.

FOR FURTHER INFORMATION CONTACT: A copy of this information collection, with applicable supporting documentation, may be obtained by contacting the Retirement Services Publications Team, Office of Personnel Management, 1900 E Street NW, Room 3316-BD, Washington, DC 20415, Attention: Cyrus S. Benson, or sent via electronic mail at RSPublicationsTeam@opm.gov or via fax at (202) 606-1995 or via telephone at (202) 936-0401.

SUPPLEMENTARY INFORMATION: The Office of Personnel Management, in accordance with the Paperwork Reduction Act of 1995 (PRA) (44 U.S.C. 3506(c)(2)(A)), provides the public with an opportunity to comment on proposed, revised, and continuing collections of information. This helps OPM assess the impact of its information collection requirements and minimize the public's reporting burden. It also helps the public understand OPM's information collection requirements and provide the requested data in the desired format. OPM is soliciting comments on the expiring information collection request (ICR) that is described below. OPM is especially interested in public comments that:

that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Please note that written comments received in response to this notice will be considered public records.

The Internal Revenue Code allows the recipient of certain types of distributions from OPM to elect how the payee prefers to receive the funds with varying tax implications. RI 38-117, Rollover Election, is used to collect information from a payee so that OPM can make payment in accordance with the wishes of the payee. RI 38-118, Rollover Information, explains the election. RI 37-22, Special Tax Notice Regarding Rollovers, provides more detailed information.

Analysis

Agency: Retirement Operations, Retirement Services, Office of Personnel Management.

Title: Rollover Election, Rollover Information, and Special Tax Notice Regarding Rollover.

OMB Number: 3206-0212.

Frequency: On occasion.

Affected Public: Individuals or Households.

Number of Respondents: 1,500.

Estimated Time per Respondent: 40 minutes.

Total Burden Hours: 1,000.

U.S. Office of Personnel Management.
Alexys Stanley,
Federal Register Liaison.

[FR Doc. 2025-18748 Filed 9-25-25; 8:45 am]

BILLING CODE 6325-38-P